SURFACE TRANSPORTATION BOARD

[Docket No. EP 290 (Sub-No. 5) (2023-3)]

Quarterly Rail Cost Adjustment Factor

AGENCY: Surface Transportation Board.

ACTION: Approval of rail cost adjustment factor.

SUMMARY: The Board has approved the third quarter 2023 Rail Cost Adjustment Factor (RCAF) and cost index filed by the Association of American Railroads. The third quarter 2023 RCAF (Unadjusted) is 0.975. The third quarter 2023 RCAF (Adjusted) is 0.389. The third quarter 2023 RCAF-5 is 0.372.

DATES: Applicability Date: July 1, 2023.

FOR FURTHER INFORMATION CONTACT: Pedro Ramirez at (202) 245-0333. If you require an accommodation under the Americans with Disabilities Act, please call (202) 245-0245.

SUPPLEMENTARY INFORMATION: Additional information is contained in the Board's decision, which is available at www.stb.gov.

Decided: June 15, 2023.
By the Board, Board Members Fuchs, Hedlund, Oberman, Primus, and Schultz.
Brendetta Jones,
Clearance Clerk.

[FR Doc. 2023-13249 Filed 6-21-23; 8:45 am]

BILLING CODE 4915-01-P